DEPARTMENT OF AGRICULTURE

Office of the Secretary

2 CFR IV

7 CFR Subtitle A, Chs. I-XI, XIV-XVIII, XX, XXVI-XXXVIII, XLI-XLII, L

9 CFR Chs. I-III

36 CFR Ch. II

48 CFR Ch. 4

Semiannual Regulatory Agenda, Fall 2011

AGENCY: Office of the Secretary, USDA.

ACTION: Semiannual regulatory agenda.

SUMMARY: This agenda provides summary descriptions of significant and not significant regulations being developed in agencies of the U.S. Department of Agriculture (USDA) in conformance with Executive Orders (EO) 12866 “Regulatory Planning and Review,” and 13563 “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with EO 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

For this edition of the USDA regulatory agenda, the most important significant regulatory actions and a Statement of Regulatory Priorities are included in the Regulatory Plan, which appears in both the online regulatory agenda and in part II of the Federal Register that includes the abbreviated regulatory agenda.

FOR FURTHER INFORMATION CONTACT: For further information on any specific entry shown in this agenda, please contact the person listed for that action. For general comments or inquiries about the agenda, please contact Michael Poe, Office of Budget and Program Analysis, U.S. Department of Agriculture, Washington, DC 20250, 202-720-1272.

Dated: September 27, 2011.
Michael Poe,
Chief, Legislative and Regulatory Staff.

Agricultural Marketing Service—Proposed Rule Stage
Sequence No. | Title | Regulation Identifier No.
170 | Wholesale Pork Reporting Program (Reg Plan Seq No. 1) | 0581-AD07
References in boldface appear in The Regulatory Plan in part II of this issue of the Federal Register.

Agricultural Marketing Service—Final Rule Stage
Sequence No. | Title | Regulation Identifier No.
171 | National Organic Program, Periodic Pesticide Residue Testing, NOP-10-0102 | 0581-AD10

Agricultural Marketing Service—Completed Actions
Sequence No. | Title | Regulation Identifier No.
172 | National Organic Program, Sunset (2011) (Crops and Processing) (TM-07-0136) | 0581-AC77

Farm Service Agency—Proposed Rule Stage
Sequence No. | Title | Regulation Identifier No.
173 | Disaster Declaration and Designation | 0560-AH17
174 | Farm Loan Programs, Clarification and Improvement | 0560-AI14

Farm Service Agency—Final Rule Stage
Sequence No. | Title | Regulation Identifier No.
175 | Conservation Loan Guarantee Program | 0560-AI04

Farm Service Agency—Completed Actions
Sequence No. | Title | Regulation Identifier No.
176 | Farm Loan Programs Loan Making Activities | 0560-AI03
177 | Biomass Crop Assistance Program; Corrections | 0560-AI13

Animal and Plant Health Inspection Service—Proposed Rule Stage
Sequence No. | Title | Regulation Identifier No.
178 | Animal Welfare: Marine Mammals; Nonconsensus Language, and Interactive Programs (Rulemaking Resulting From a Section 610 Review) | 0579-AB24
179 | Animal Welfare; Regulations and Standards for Birds (Reg Plan Seq No. 3) | 0579-AC02
180 | Bovine Spongiform Encephalopathy; Importation of Bovines and Bovine Products | 0579-AC68
181 | Scrapie in Sheep and Goats | 0579-AC92
182 | Plant Pest Regulations; Update of General Provisions (Reg Plan Seq No. 4) | 0579-AC98
183 | Bovine Spongiform Encephalopathy and Scrapie; Importation of Small Ruminants and Their Germplasm, Products, and Byproducts | 0579-AD10
184 | Importation of Beef From a Region in Brazil | 0579-AD41
References in boldface appear in The Regulatory Plan in part II of this issue of the Federal Register.

Animal and Plant Health Inspection Service—Final Rule Stage
Sequence No. | Title | Regulation Identifier No.
185 | Citrus Canker; Compensation for Certified Citrus Nursery Stock | 0579-AC05
186 | Importation of Poultry and Poultry Products From Regions Affected With Highly Pathogenic Avian Influenza | 0579-AC36
187 | Handling of Animals; Contingency Plans | 0579-AC69

Animal and Plant Health Inspection Service—Long-Term Actions
Sequence No. | Title | Regulation Identifier No.
188 | Introduction of Organisms and Products Altered or Produced Through Genetic Engineering | 0579-AC31
189 | Citrus Canker, Citrus Greening, and Asian Citrus Psyllid; Interstate Movement of Regulated Nursery Stock | 0579-AD29

Animal and Plant Health Inspection Service—Completed Actions
Sequence No. | Title | Regulation Identifier No.
190 | Importation of Plants for Planting; Establishing a New Category of Plants for Planting Not Authorized for Importation Pending Pest Risk Analysis (Completion of a Section 610 Review) | 0579-AC03

Rural Housing Service—Final Rule Stage
Sequence No. | Title | Regulation Identifier No.
191 | Guaranteed Single-Family Housing | 0575-AC18

Grain Inspection, Packers and Stockyards Administration—Final Rule Stage
Sequence No. | Title | Regulation Identifier No.
192 | Implementation of Regs. Required by the 2008 Farm Bill; Swine and Poultry Sample Contracts, Suspension of Delivery of Birds, Add'l Capital Investment Criteria, Breach of Contract, and Arbitration | 0580-AB07

Food and Nutrition Service—Proposed Rule Stage
Sequence No. | Title | Regulation Identifier No.
193 | National School Lunch and School Breakfast Programs: Nutrition Standards for All Foods Sold in School, as Required by the Healthy, Hunger-Free Kids Act of 2010 (Reg Plan Seq No. 8) | 0584-AE09
194 | Certification of Compliance With Meal Requirements for the National School Lunch Program Under the Healthy, Hunger-Free Kids Act of 2010 | 0584-AE15
195 | Child and Adult Care Food Program: Meal Pattern Revisions Related to the Healthy, Hunger-Free Kids Act of 2010 | 0584-AE18
References in boldface appear in The Regulatory Plan in part II of this issue of the Federal Register.

Food Safety and Inspection Service—Final Rule Stage
Sequence No. | Title | Regulation Identifier No.
196 | Performance Standards for the Production of Processed Meat and Poultry Products; Control of Listeria Monocytogenes in Ready-To-Eat Meat and Poultry Products (Reg Plan Seq No. 19) | 0583-AC46
References in boldface appear in The Regulatory Plan in part II of this issue of the Federal Register.

Food Safety and Inspection Service—Long-Term Actions
Sequence No. | Title | Regulation Identifier No.
197 | Mandatory Inspection of Catfish and Catfish Products | 0583-AD36

Forest Service—Final Rule Stage
Sequence No. | Title | Regulation Identifier No.
198 | Special Areas; State-Specific Inventoried Roadless Area Management: Colorado | 0596-AC74

Forest Service—Completed Actions
Sequence No. | Title | Regulation Identifier No.
199 | Pest and Disease Revolving Loan Fund | 0596-AC97

Office of the Secretary—Completed Actions
Sequence No. | Title | Regulation Identifier No.
200 | Designation of Biobased Items for Federal Procurement, Round 7 | 0503-AA36

Office of Procurement and Property Management—Proposed Rule Stage
Sequence No. | Title | Regulation Identifier No.
201 | Designation of Biobased Items for Federal Procurement, Round 9 | 0599-AA15
202 | Designation of Biobased Items for Federal Procurement, Round 10 | 0599-AA16

Office of Procurement and Property Management—Final Rule Stage
Sequence No. | Title | Regulation Identifier No.
203 | Designation of Biobased Items for Federal Procurement, Round 8 | 0599-AA14

BILLING CODE 3410-90-P

DEPARTMENT OF AGRICULTURE (USDA)

Agricultural Marketing Service (AMS)

Proposed Rule Stage

170. Wholesale PORK Reporting Program

Regulatory Plan: This entry is Seq. No. 1 in part II of this issue of the Federal Register.

RIN: 0581-AD07

DEPARTMENT OF AGRICULTURE (USDA)

Agricultural Marketing Service (AMS)

Final Rule Stage

171. National Organic Program, Periodic Pesticide Residue Testing, NOP-10-0102

Legal Authority: 7 U.S.C. 6501

Abstract: Under the Organic Foods Production Act (OFPA) of 1990, the National Organic Program is authorized to require pre-harvest residue testing for products sold or labeled as organic. This requirement is promulgated in section 205.670(b) of the NOP regulations which provides that the Secretary, state programs, and certifying agents may require pre-harvest or post-harvest testing of organic products when there is reason to believe that the product has come into contact with a prohibited substance or has been produced using excluded methods.

As a result of legal opinion received by the NOP on this issue, the NOP plans to publish a proposed rule that would amend regulations such that certifying agents would be required to conduct periodic testing of agricultural products that are to be sold, labeled or represented as “100 percent organic, organic”, or “made with organic (specified ingredients or food group(s))”. Specifically, the proposed rule would specify that certifying agents are required, on an annual basis, to randomly sample and test agricultural products from a minimum of 5 percent of the operations they certify.

Timetable:

Action | Date | FR Cite
NPRM | 04/29/11 | 76 FR 23914
NPRM Comment Period End | 06/28/11
Final Action | 06/00/12

Regulatory Flexibility Analysis Required: Yes.

Agency Contact: Melissa R. Bailey, Director, Standards Division, Department of Agriculture, Agricultural Marketing Service, Washington, DC 20250, Phone: 202 720-3252, Fax: 202 205-7808, Email: melissa.bailey@usda.gov.

RIN: 0581-AD10

DEPARTMENT OF AGRICULTURE (USDA)

Agricultural Marketing Service (AMS)

Completed Actions

172. National Organic Program, Sunset (2011) (Crops and Processing) (TM-07-0136)

Legal Authority: 7 U.S.C. 6501

Abstract: The Agricultural Marketing Service (AMS) is amending regulations pertaining to the National List of Allowed and Prohibited Substances. As required by the National Organic Foods Production Act of 1990, the allowed use of the 12 synthetic and non-synthetic substances in organic production and handling will expire on September 12, 2011. The AMS published an advance notice of proposed rulemaking to make the public aware of this requirement. AMS believes that public comment is essential in the review process to determine whether these substances should continue to be allowed or prohibited in the production and handling of organic agricultural products.

Completed:

Reason | Date | FR Cite
Final Action | 08/03/11 | 76 FR 46595
Final Action Effective | 09/12/11

Regulatory Flexibility Analysis Required: Yes.

Agency Contact: Melissa R. Bailey, Phone: 202 720-3252, Fax: 202 205-7808, Email: melissa.bailey@usda.gov.

RIN: 0581-AC77

BILLING CODE 3410-02-P

DEPARTMENT OF AGRICULTURE (USDA)

Farm Service Agency (FSA)

Proposed Rule Stage

173. Disaster Declaration and Designation

Legal Authority: 7 U.S.C. 1961; 7 U.S.C. 1989

Abstract: This rule proposes to move regulations used by the Farm Service Agency (FSA) from chapter XVIII of the Code of Federal Regulations, formerly used by the predecessor to FSA, the Farmers Home Administration, to chapter VII, the chapter where most FSA rules are located. This rule also proposes to clarify and simplify procedures for identifying disaster areas, reorganize provisions in a more logical manner, and remove administrative provisions. The intent of this rule is to propose updated regulations to match the current USDA structure.

Proposed changes to the disaster regulation would delegate the designation authority from the Secretary to the State level, remove the requirement for a request for designation of a disaster area from a State Governor or Indian Tribal Council to the Secretary, add a simplified disaster designation in severe drought situations, and change the USDA Secretarial disaster designation process from 6 steps to 3 steps for natural disasters, including certain other drought situations.

Timetable:

Action | Date | FR Cite
NPRM | 11/14/11 | 76 FR 70368
NPRM Comment Period End | 01/13/12 |
Final Rule | 08/00/12 |

Regulatory Flexibility Analysis Required: Yes.

Agency Contact: Deirdre Holder, Director, Regulatory Review Group, Department of Agriculture, Farm Service Agency, 1400 Independence Avenue SW., Washington, DC 20250-0572, Phone: 202 205-5851, Fax: 202 720-5233, Email: deirdre.holder@wdc.usda.gov.

RIN: 0560-AH17

174. • Farm Loan Programs, Clarification and Improvement

Legal Authority: 5 U.S.C. 301; 7 U.S.C. 1989

Abstract: FSA will propose amendments to Farm Loan Programs (FLP) regulations for loan servicing including to following areas:

• Real estate appraisals;

• The lease, subordination, and disposition of security; and

• Conservation contracts.

FSA also proposes additional technical and conforming amendments. The amendments are generally limited to technical corrections, clarifications, and procedural improvements that will allow FSA to further streamline normal servicing activities and reduce burden on borrowers while still protecting the loan security.

Timetable:

Action | Date | FR Cite
NPRM | 02/00/12

Regulatory Flexibility Analysis Required: Yes.

Agency Contact: Deirdre Holder, Director, Regulatory Review Group, Department of Agriculture, Farm Service Agency, 1400 Independence Avenue SW., Washington, DC 20250-0572, Phone: 202 205-5851, Fax: 202 720-5233, Email: deirdre.holder@wdc.usda.gov.

RIN: 0560-AI14

DEPARTMENT OF AGRICULTURE (USDA)

Farm Service Agency (FSA)

Final Rule Stage

175. Conservation Loan Guarantee Program

Legal Authority: Pub. L. 110-246

Abstract: The interim rule implemented the provisions of the 2008 Farm Bill that affect Farm Loan Programs (FLP) Loan Making Division (LMD). A final rule is being developed. The section 5002 of the 2008 Farm Bill authorized Conservation Loans and Loan Guarantees. Implementation of this provision will created a new direct and guaranteed loan program directed at assisting farmers in implementing conservation practices.

The rule established a new loan and loan guarantee program to finance qualifying conservation projects. All guarantees will be at 75 percent of the loan amount. The applicant must have an acceptable conservation plan that includes the project to be financed. Preference is given to beginning farmer and socially disadvantaged applicants, conversion to sustainable or organic production practices, and compliance with highly erodible land conservation requirements. Eligibility for the program is not restricted to those who cannot get credit elsewhere. The program is not mandatory.

Timetable:

Action | Date | FR Cite
Interim Final Rule | 09/03/10 | 75 FR 54005
Interim Final Rule Comment Period End | 11/02/10 |
Notice | 05/13/11 | 76 FR 27986
Final Rule | 02/00/12

Regulatory Flexibility Analysis Required: Yes.

Agency Contact: Deirdre Holder, Director, Regulatory Review Group, Department of Agriculture, Farm Service Agency, 1400 Independence Avenue SW., Washington, DC 20250-0572, Phone: 202 205-5851, Fax: 202 720-5233, Email: deirdre.holder@wdc.usda.gov.

RIN: 0560-AI04

DEPARTMENT OF AGRICULTURE (USDA)

Farm Service Agency (FSA)

Completed Actions

176. Farm Loan Programs Loan Making Activities

Legal Authority: Pub. L. 110-246

Abstract: The rule will implement the provisions of the 2008 Farm Bill that affect Farm Loan Programs (FLP) Loan Making Division (LMD); there is discretion involved in the implementation. The sections of the 2008 Farm Bill that the 9/23/2010 proposed rule would implement are: 5001, Direct Loans; 5005, Beginning Farmer or Rancher and Socially Disadvantaged Farmer or Rancher Contract Land Sales Program Down Payment Loan Program; 5101, Farming Experience as an Eligibility Requirement; and 5201, Eligibility of Equine Farmers and Ranchers for Emergency Loans.

For the development of the rulemaking that would implement section 5501, Loans to Purchase Highly Fractionated Land, FSA conducted Tribal consultation. The rule would allow individual tribal members to qualify for Indian Land Acquisition loans. This will be published as a separate proposed rule.

Completed:

Reason | Date | FR Cite
Final Rule | 12/02/11 | 76 FR 75427
Final Rule Effective | 01/03/12

Regulatory Flexibility Analysis Required: Yes.

Agency Contact: Deirdre Holder, Phone: 202 205-5851, Fax: 202 720-5233, Email: deirdre.holder@wdc.usda.gov.

RIN: 0560-AI03

177. • Biomass Crop Assistance Program; Corrections

Legal Authority: Pub. L. 110-246

Abstract: The Commodity Credit Corporation (CCC) is amending the Biomass Crop Assistance Program (BCAP) regulation to provide specifically for prioritizing limited program funds in favor of the “project area” portion of BCAP. CCC is also correcting errors in the regulation.

Timetable:

Action | Date | FR Cite
Interim Final Rule | 09/15/11 | 76 FR 56949
Interim Final Rule Comment Period End | 11/14/11

Regulatory Flexibility Analysis Required: Yes.

Agency Contact: Deirdre Holder, Director, Regulatory Review Group, Department of Agriculture, Farm Service Agency, 1400 Independence Avenue SW., Washington, DC 20250-0572, Phone: 202 205-5851, Fax: 202 720-5233, Email: deirdre.holder@wdc.usda.gov.

RIN: 0560-AI13

BILLING CODE 3410-05-P

DEPARTMENT OF AGRICULTURE (USDA)

Animal and Plant Health Inspection Service (APHIS)

Proposed Rule Stage

178. Animal Welfare: Marine Mammals; Nonconsensus Language, and Interactive Programs (Rulemaking Resulting From a Section 610 Review)

Legal Authority: 7 U.S.C. 2131 to 2159

Abstract: The U.S. Department of Agriculture regulates the humane handling, care, treatment, and transportation of certain marine mammals under the Animal Welfare Act. The present standards for these animals have been in effect since 1979 and amended in 1984. During this time, advances have been made and new information has been developed with regard to the housing and care of marine mammals. This rulemaking addresses marine mammal standards on which consensus was not reached during negotiated rulemaking conducted between September 1995 and July 1996. These include standards affecting variances, indoor facilities, outdoor facilities, space requirements, and water quality, as well as swim-with-the-dolphin programs. These actions appear necessary to ensure that the minimum standards for the humane handling, care, treatment, and transportation of marine mammals in captivity are based on current general, industry, and scientific knowledge and experience.

Timetable:

Action | Date | FR Cite
ANPRM | 05/30/02 | 67 FR 37731
ANPRM Comment Period End | 07/29/02 |
NPRM | 05/00/12 |
NPRM Comment Period End | 07/00/12

Regulatory Flexibility Analysis Required: Yes.

Agency Contact: Barbara Kohn, Senior Staff Veterinarian, Animal Care, Department of Agriculture, Animal and Plant Health Inspection Service, 4700 River Road, Unit 84, Riverdale, MD 20737-1234, Phone: 301 734-7833.

RIN: 0579-AB24

179. Animal Welfare; Regulations and Standards for Birds

Regulatory Plan: This entry is Seq. No. 3 in part II of this issue of the Federal Register.

RIN: 0579-AC02

180. Bovine Spongiform Encephalopathy; Importation of Bovines and Bovine Products

Legal Authority: 7 U.S.C. 450; 7 U.S.C. 1622; 7 U.S.C. 7701 to 7772; 7 U.S.C. 8301 to 8317; 21 U.S.C. 136 and 136a; 31 U.S.C. 9701

Abstract: This rulemaking would amend the regulations regarding the importation of bovines and bovine products. Under this rulemaking, countries would be classified as either negligible risk, controlled risk, or undetermined risk for bovine spongiform encephalopathy (BSE). Some commodities would be allowed importation into the United States regardless of the BSE classification of the country of export. Other commodities would be subject to importation restrictions or prohibitions based on the type of commodity and the BSE classification of the country. The criteria for country classification and commodity import would be closely aligned with those of the World Organization for Animal Health. This rulemaking would also address public comments received in response to a September 2008 request for comments regarding certain provisions of an APHIS January 2005 final rule.

Timetable:

Action | Date | FR Cite
NPRM | 03/00/12 |
NPRM Comment Period End | 05/00/12

Regulatory Flexibility Analysis Required: Yes.

Agency Contact: Christopher Robinson, Senior Staff Veterinarian, Technical Trade Services, National Center for Import and Export, VS, Department of Agriculture, Animal and Plant Health Inspection Service, 4700 River Road, Unit 40, Riverdale, MD 20737-1231, Phone: 301 734-7837.

RIN: 0579-AC68

181. Scrapie in Sheep and Goats

Legal Authority: 7 U.S.C. 8301 to 8317

Abstract: This rulemaking would amend the scrapie regulations by changing the risk groups and categories established for individual animals and for flocks, increasing the use of genetic testing as a means of assigning risk levels to animals, reducing movement restrictions for animals found to be genetically less susceptible or resistant to scrapie, and simplifying, reducing, or removing certain recordkeeping requirements. This action would provide designated scrapie epidemiologists with more alternatives and flexibility when testing animals in order to determine flock designations under the regulations. It would change the definition of high-risk animal, which will change the types of animals eligible for indemnity, and to pay higher indemnity for certain pregnant ewes and early maturing ewes. It would also make the identification and recordkeeping requirements for goat owners consistent with those for sheep owners. These changes would affect sheep and goat producers and State governments.

Timetable:

Action | Date | FR Cite
NPRM | 01/00/12 |
NPRM Comment Period End | 03/00/12

Regulatory Flexibility Analysis Required: Yes.

Agency Contact: Diane Sutton, National Scrapie Program Coordinator, Ruminant Health Programs, NCAHP, VS, Department of Agriculture, Animal and Plant Health Inspection Service, 4700 River Road, Unit 43, Riverdale, MD 20737-1235, Phone: 301 734-6954.

RIN: 0579-AC92

182. Plant Pest Regulations; Update of General Provisions

Regulatory Plan: This entry is Seq. No. 4 in part II of this issue of the Federal Register.

RIN: 0579-AC98

183. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking would amend the bovine spongiform encephalopathy (BSE) and scrapie regulations regarding the importation of live sheep, goats, and wild ruminants and their embryos, semen, products, and byproducts. Some countries from which such imports would be allowed under this rule are currently those from which the importation of live sheep, goats, wild ruminants, their embryos, and ruminant products and byproducts are prohibited under existing BSE regulations. Some products would be allowed importation without restriction due to the inherent lack of BSE risk regarding the product. Certain other products and live animals would be allowed importation if it can be certified that the live animals or the animals from which the products were derived were born after implementation of an effective feed ban. The proposed scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 01/00/12 |
NPRM Comment Period End | 03/00/12

Regulatory Flexibility Analysis Required: Yes.

Agency Contact: Betzaida Lopez, Staff Veterinarian, Technical Trade Services, National Center for Import and Export, VS, Department of Agriculture, Animal and Plant Health Inspection Service, 4700 River Road, Unit 39, Riverdale, MD 20737-1231, Phone: 301 734-5677.

RIN: 0579-AD10

184. • Importation of Beef From a Region in Brazil

Legal Authority: 7 U.S.C. 450; 7 U.S.C. 7701 to 7772; 7 U.S.C. 7781 to 7786; 7 U.S.C. 8301 to 8317; 21 U.S.C. 136 and 136a; 31 U.S.C. 9701

Abstract: This rulemaking would amend the regulations governing the importation of certain animals, meat, and other animal products by allowing, under certain conditions, the importation of fresh (chilled or frozen) beef from a region in Brazil (the States of Bahia, Distrito Federal, Espirito Santo, Goias, Mato Grosso, Mato Grosso do Sul, Minas Gerais, Parana, Rio Grande do Sul, Rio de Janeiro, Rondonia, Sao Paulo, Sergipe, and Tocantis). Based on the evidence in a recent risk assessment, we have determined that fresh (chilled or frozen) beef can be safely imported from those Brazilian States provided certain conditions are met. This action would provide for the importation of beef from the designated region in Brazil into the United States while continuing to protect the United States against the introduction of foot-and-mouth disease.

Timetable:

Action | Date | FR Cite
NPRM | 02/00/12 |
NPRM Comment Period End | 04/00/12 |

Regulatory Flexibility Analysis Required: Yes.

Agency Contact: Silvia Kreindel, Senior Staff Veterinarian, Regionalization Evaluation Services Staff, NCIE, VS, Department of Agriculture, Animal and Plant Health Inspection Service, 4700 River Road, Unit 39, Riverdale, MD 20737-1231, Phone: 301 734-8419.

RIN: 0579-AD41

DEPARTMENT OF AGRICULTURE (USDA)

Animal and Plant Health Inspection Service (APHIS)

Final Rule Stage

185. Citrus Canker; Compensation for Certified Citrus Nursery Stock

Legal Authority: 7 U.S.C. 7701 to 7772; 7 U.S.C. 7781 to 7786

Abstract: This action follows a rulemaking that established provisions under which eligible commercial citrus nurseries may, subject to the availability of appropriated funds, receive payments for certified citrus nursery stock destroyed to eradicate or control citrus canker. The payment of these funds is necessary in order to reduce the economic effects on affected commercial citrus nurseries that have had certified citrus nursery stock destroyed to control citrus canker.

Timetable:

Action | Date | FR Cite
Interim Final Rule | 06/08/06 | 71 FR 33168
Interim Final Rule Effective | 06/08/06 |
Interim Final Rule Comment Period End | 08/07/06 |
Final Action | 01/00/12 |

Regulatory Flexibility Analysis Required: Yes.

Agency Contact: Lynn E. Goldner, National Program Manager, Emergency and Domestic Programs, PPQ, Department of Agriculture, Animal and Plant Health Inspection Service, 4700 River Road, Unit 160, Riverdale, MD 20737-1231, Phone: 301 734-7228.

RIN: 0579-AC05

186. Importation of Poultry and Poultry Products From Regions Affected With Highly Pathogenic Avian Influenza

Legal Authority: 7 U.S.C. 1622; 7 U.S.C. 8301 to 8317; 21 U.S.C. 136 and 136a

Abstract: This rulemaking will amend the regulations concerning the importation of animals and animal products to prohibit or restrict the importation of birds, poultry, and bird and poultry products from regions that have reported the presence in commercial birds or poultry of highly pathogenic avian influenza other than subtype H5N1. This action will supplement existing prohibitions and restrictions on articles from regions that have reported the presence of Newcastle disease or highly pathogenic avian influenza subtype H5N1. The new restrictions will be almost identical to those imposed on articles from regions with Newcastle disease.

Timetable:

Action | Date | FR Cite
Interim Final Rule | 01/24/11 | 76 FR 4046
Interim Final Rule Comment Period End | 03/25/11 |
Interim Final Rule Comment Period Reopened | 05/03/11 | 76 FR 24793
Interim Final Rule Comment Period Reopened End | 05/18/11 |
Final Rule | 05/00/12 |

Regulatory Flexibility Analysis Required: Yes.

Agency Contact: Javier Vargas, Case Manager, National Center for Import and Export, VS, Department of Agriculture, Animal and Plant Health Inspection Service, 4700 River Road, Unit 38, Riverdale, MD 20737-1231, Phone: 301 734-4356.

RIN: 0579-AC36

187. Handling of Animals; Contingency Plans

Legal Authority: 7 U.S.C. 2131 to 2159

Abstract: This rulemaking will amend the Animal Welfare Act regulations to add requirements for contingency planning and training of personnel by research facilities and by dealers, exhibitors, intermediate handlers, and carriers. These requirements are necessary because we believe all licensees and registrants should develop a contingency plan for all animals regulated under the Animal Welfare Act in an effort to better prepare for potential disasters. This action will heighten the awareness of licensees and registrants regarding their responsibilities and help ensure a timely and appropriate response should an emergency or disaster occur.

Timetable:

Action | Date | FR Cite
NPRM | 10/23/08 | 73 FR 63085
NPRM Comment Period End | 12/22/08 |
NPRM Comment Period Extended | 12/19/08 | 73 FR 77554
NPRM Comment Period Extended End | 02/20/09 |
Final Action | 05/00/12 |

Regulatory Flexibility Analysis Required: Yes.

Agency Contact: Jeanie Lin, National Emergency Programs Manager, Animal Care, Department of Agriculture, Animal and Plant Health Inspection Service, 4700 River Road, Unit 84, Riverdale, MD 20737, Phone: 301 734-7833.

RIN: 0579-AC69

DEPARTMENT OF AGRICULTURE (USDA)

Animal and Plant Health Inspection Service (APHIS)

Long-Term Actions

188. Introduction of Organisms and Products Altered or Produced Through Genetic Engineering

Legal Authority: 7 U.S.C. 7701 to 7772; 7 U.S.C. 7781 to 7786; 31 U.S.C. 9701

Abstract: This rulemaking would revise the regulations regarding the importation, interstate movement, and environmental release of certain genetically engineered organisms in order to bring the regulations into alignment with provisions of the Plant Protection Act. The revisions would also update the regulations in response to advances in genetic science and technology and our accumulated experience in implementing the current regulations. This is the first comprehensive review and revision of the regulations since they were established in 1987. This rule would affect persons involved in the importation, interstate movement, or release into the environment of genetically engineered plants and certain other genetically engineered organisms.

Timetable:

Action | Date | FR Cite
Notice of Intent to Prepare an Environmental Impact Statement | 01/23/04 | 69 FR 3271
Comment Period End | 03/23/04 |
Notice of Availability of Draft Environmental Impact Statement | 07/17/07 | 72 FR 39021
Comment Period End | 09/11/07 |
NPRM | 10/09/08 | 73 FR 60007
NPRM Comment Period End | 11/24/08 |
Correction | 11/10/08 | 73 FR 66563
NPRM Comment Period Reopened | 01/16/09 | 74 FR 2907
NPRM Comment Period End | 03/17/09 |
NPRM; Notice of Public Scoping Session | 03/11/09 | 74 FR 10517
NPRM Comment Period Reopened | 04/13/09 | 74 FR 16797
NPRM Comment Period End | 06/29/09 |
Next Action Undetermined |  |

Regulatory Flexibility Analysis Required: Yes.

Agency Contact: John Turner, Phone: 301 734-5720.

RIN: 0579-AC31

189. Citrus Canker, Citrus Greening, and Asian Citrus Psyllid; Interstate Movement of Regulated Nursery Stock

Legal Authority: 7 U.S.C. 7701 to 7772; 7 U.S.C. 7781 to 7786

Abstract: This rulemaking will amend the regulations governing the interstate movement of regulated articles from areas quarantined for citrus canker, citrus greening, and/or Asian citrus psyllid (ACP) to allow the movement of regulated nursery stock under a certificate to any area within the United States. In order to be eligible to move regulated nursery stock, a nursery must enter into a compliance agreement with APHIS that specifies the conditions under which the nursery stock must be grown, maintained, and shipped. It will also amend the regulations that allow the movement of regulated nursery stock from an area quarantined for ACP, but not for citrus greening, to amend the existing regulatory requirements for the issuance of limited permits for the interstate movement of the nursery stock. We are making these changes on an immediate basis in order to provide nursery stock producers in areas quarantined for citrus canker, citrus greening, or ACP with the ability to ship regulated nursery stock to markets within the United States that would otherwise be unavailable to them due to the prohibitions and restrictions contained in the regulations while continuing to provide adequate safeguards to prevent the spread of the three pests into currently unaffected areas of the United States.

Timetable:

Action | Date | FR Cite
Interim Final Rule | 04/27/11 | 76 FR 23449
Interim Final Rule Effective | 04/27/11 |
Interim Final Rule Comment Period End | 06/27/11 |
Next Action Undetermined

Regulatory Flexibility Analysis Required: Yes.

Agency Contact: Osama El-Lissy, Phone: 301 734-5459.

Deborah McPartlan, Phone: 301 734-5356.

RIN: 0579-AD29

DEPARTMENT OF AGRICULTURE (USDA)

Animal and Plant Health Inspection Service (APHIS)

Completed Actions

190. Importation of Plants for Planting; Establishing a New Category of Plants for Planting Not Authorized for Importation Pending Pest Risk Analysis (Completion of a Section 610 Review)

Legal Authority: 7 U.S.C. 450; 7 U.S.C. 7701 to 7772; 7 U.S.C. 7781 to 7786; 21 U.S.C. 136 and 136a

Abstract: This rulemaking will amend the regulations to establish a new category of regulated articles in the regulations governing the importation of nursery stock, also known as plants for planting. This category will list taxa of plants for planting whose importation is not authorized pending pest risk analysis. If scientific evidence indicates that a taxon of plants for planting is a quarantine pest or a host of a quarantine pest, we will publish a notice that will announce our determination that the taxon is a quarantine pest or a host of a quarantine pest, cite the scientific evidence we considered in making this determination, and give the public an opportunity to comment on our determination. If we receive no comments that change our determination, the taxon will subsequently be added to the new category. We will allow any person to petition for a pest risk analysis to be conducted for a taxon that has been added to the new category. After the pest risk analysis is completed, we will remove the taxon from the category and allow its importation subject to general requirements, allow its importation subject to specific restrictions, or prohibit its importation. We will consider applications for permits to import small quantities of germplasm from taxa whose importation is not authorized pending pest risk analysis, for experimental or scientific purposes under controlled conditions. This new category will allow us to take prompt action on evidence that the importation of a taxon of plants for planting poses a risk while continuing to allow for public participation in the process.

Timetable:

Action | Date | FR Cite
NPRM | 07/23/09 | 74 FR 36403
NPRM Comment Period End | 10/21/09 |
Information Collection; Comment Request | 05/03/11 | 76 FR 24848
Information Collection Comment Period End | 07/05/11 |
Final Rule | 05/27/11 | 76 FR 31172
Final Rule Effective | 06/27/11 |

Regulatory Flexibility Analysis Required: No.

Agency Contact: Arnold T. Tschanz, Senior Plant Pathologist, Plant Health Programs, PPQ, Department of Agriculture, Animal and Plant Health Inspection Service, 4700 River Road, Unit 133, Riverdale, MD 20737-1231, Phone: 301 734-0627.

RIN: 0579-AC03

BILLING CODE 3410-34-P

DEPARTMENT OF AGRICULTURE (USDA)

Rural Housing Service (RHS)

Final Rule Stage

191. Guaranteed Single-Family Housing

Legal Authority: 5 U.S.C. 301; 7 U.S.C. 1989; 42 U.S.C. 1480

Abstract: The Guaranteed Single-Family Housing Loan Program is taking the proposed action to implement authorities granted the Secretary of the USDA, in section 102 of the Supplemental Appropriations Act, 2010 (Pub. L. 111-212, July 29, 2010) to collect from the lender an annual fee not to exceed 0.5 percent of the outstanding principal balance of the loan for the life of the loan. The intent of the annual fee is to make the SFHGLP subsidy neutral when used in conjunction with the one-time guarantee fee, thus eliminating the need for taxpaper support of the program.

Timetable:

Action | Date | FR Cite
NPRM | 12/15/99 | 64 FR 70124
NPRM Comment Period End | 02/14/00 |
Final Action | 06/00/12 |
Final Action Effective | 07/00/12 |

Regulatory Flexibility Analysis Required: Yes.

Agency Contact: Cathy Glover, Senior Loan Specialist, Department of Agriculture, Rural Housing Service, 1400 Independence Avenue SW., STOP 0784, Washington, DC 02050-0784, Phone: 202 720-1460, Email: cathy.glover@wdc.usda.gov.

RIN: 0575-AC18

BILLING CODE 3410-XV-P

DEPARTMENT OF AGRICULTURE (USDA)

Grain Inspection, Packers and Stockyards Administration (GIPSA)

Final Rule Stage

192. Implementation of Regs. Required by the 2008 Farm Bill; Swine and Poultry Sample Contracts, Suspension of Delivery of Birds, Add'l Capital Investment Criteria, Breach of Contract, and Arbitration

Legal Authority: 7 U.S.C. 181

Abstract: GIPSA is amending the regulations under the Packers and Stockyards Act, 1921. Notably, these regulations establish criteria that GIPSA will consider in determining whether a live poultry dealer has provided reasonable notice to poultry growers of any suspension of the delivery of birds under a poultry growing arrangement; when a requirement of additional capital investments over the life of a poultry growing arrangement or swine production contract constitutes a violation of the P&S Act; and whether a live poultry dealer or swine contractor has provided a reasonable period of time for a poultry grower or a swine production contract grower to remedy a breach of contract that could lead to termination of the poultry growing arrangement or swine production contract. GIPSA will also promulgate regulations to ensure that producers and growers are afforded the opportunity to fully participate in the arbitration process if they so choose.

Timetable:

Action | Date | FR Cite
NPRM | 06/22/10 | 75 FR 35338
NPRM Comment Period End | 08/23/10 |
NPRM Comment Period Extended | 11/22/10 | 75 FR 44163
Final Rule | 12/09/11 | 76 FR 76874
Final Rule Effective | 02/07/12 |

Regulatory Flexibility Analysis Required: Yes.

Agency Contact: H. Tess Butler, Regulatory Liaison, Department of Agriculture, Grain Inspection, Packers and Stockyards Administration, 1400 Independence Avenue SW., Washington, DC 20250, Phone: 202 720-7486, Fax: 202 690-2173, Email: h.tess.butler@usda.gov.

RIN: 0580-AB07

BILLING CODE 3410-EN-P

DEPARTMENT OF AGRICULTURE (USDA)

Food and Nutrition Service (FNS)

Proposed Rule Stage

193. • National School Lunch and School Breakfast Programs: Nutrition Standards for All Foods Sold in School, as Required by the Healthy, Hunger-Free Kids Act of 2010

Regulatory Plan: This entry is Seq. No. 8 in part II of this issue of the Federal Register.

RIN: 0584-AE09

194. • Certification of Compliance With Meal Requirements for the National School Lunch Program Under the Healthy, Hunger-Free Kids Act of 2010

Legal Authority: Pub. L. 111-296

Abstract: This proposed rule would codify section 201 of the Healthy, Hunger-Free Kids Act (Pub. L. 111-296; the Act) as appropriate, under 7 CFR part 210.

Section 201 of the Act directs the Secretary to provide, no earlier than October 1, 2012, an additional 6 cents per lunch, adjusted annually for changes in the Consumer Price Index, for schools that are certified to be in compliance with the interim/final regulation, “Nutrition Standards in the National School Lunch and Breakfast Programs,” (proposed rule published January 13, 2011). This rule would establish the compliance standards that State agencies would use to certify schools that are eligible to receive the rate increase. (11-011)

Timetable:

Action | Date | FR Cite
NPRM | 06/00/12 |

Regulatory Flexibility Analysis Required: Yes.

Agency Contact: James F. Herbert, Regulatory Review Specialist, Department of Agriculture, Food and Nutrition Service, 10th Floor, 3101 Park Center Drive, Alexandria, VA 22302, Phone: 703 305-2572, Email: james.herbert@fns.usda.gov.

RIN: 0584-AE15

195. • Child and Adult Care Food Program: Meal Pattern Revisions Related to the Healthy, Hunger-Free Kids Act of 2010

Legal Authority: Pub. L. 111-296

Abstract: Section 221 of the Healthy, Hunger-Free Kids Act of 2010 (Pub. L. 111-296, the Act) requires USDA to review and update, no less frequently than once every 10 years, requirements for meals served under the Child and Adult Care Food Program (CACFP) to ensure that meals are consistent with the most recent Dietary Guidelines for Americans and relevant nutrition science. The Act requires that proposed regulations to update the meal patterns be published no later than 18 months after a review is completed.

In addition to requiring modifications to the CACFP meal requirements, section 221 of the Act:

• Clarifies the purpose of the program is to provide aid to child and adult care institutions and family or group day care homes for the provision of nutritious foods that contribute to the wellness, healthy growth and development of young children, and the health and wellness of older adults and chronically impaired disabled persons;

• Restricts the use of food as a punishment or reward;

• Requires that milk provided in participating child care centers and family or group day care homes as part of a reimbursable meal or supplement meet the requirements of the most recent version of the Dietary Guidelines;

• Allows substitution of milk for children who cannot consume fluid milk due to medical or other special dietary needs other than a disability with a nondairy beverage that is nutritionally equivalent to fluid milk and meets nutritional standards established by the Secretary, including fortification of calcium, protein, vitamin A, and vitamin D to levels found in cow's milk; and

• Requires participating child care centers and family or group day care homes to make water available to children, as nutritionally appropriate, throughout the day, including during meal times.

This rule will establish the criteria and procedures for implementing these provisions of the Act. (11-015)

Timetable:

Action | Date | FR Cite
NPRM | 06/00/12 |

Regulatory Flexibility Analysis Required: Yes.

Agency Contact: James F. Herbert, Regulatory Review Specialist, Department of Agriculture, Food and Nutrition Service, 10th Floor, 3101 Park Center Drive, Alexandria, VA 22302, Phone: 703 305-2572, Email: james.herbert@fns.usda.gov.

RIN: 0584-AE18

BILLING CODE 3410-30-P

DEPARTMENT OF AGRICULTURE (USDA)

Food Safety and Inspection Service (FSIS)

Final Rule Stage

196. Performance Standards for the Production of Processed Meat and Poultry Products; Control of Listeria Monocytogenes in Ready-To-Eat Meat and Poultry Products

Regulatory Plan: This entry is Seq. No. 19 in part II of this issue of the Federal Register.

RIN: 0583-AC46

DEPARTMENT OF AGRICULTURE (USDA)

Food Safety and Inspection Service (FSIS)

Long-Term Actions

197. Mandatory Inspection of Catfish and Catfish Products

Legal Authority: 21 U.S.C. 601 et seq.; Pub. L. 110-249, sec 11016

Abstract: The Food, Conservation, and Energy Act of 2008 (Pub. L. 110-246, sec. 11016), known as the 2008 Farm Bill, amended the Federal Meat Inspection Act (FMIA) to make catfish an amenable species under the FMIA. Amenable species must be inspected, so this rule will define inspection requirements for catfish. The regulations will define “catfish” and the scope of coverage of the regulations to apply to establishments that process farm-raised species of catfish and to catfish and catfish products. The regulations will take into account the conditions under which the catfish are raised and transported to a processing establishment.

Timetable:

Action | Date | FR Cite
NPRM | 02/24/11 | 76 FR 10433.
NPRM Comment Period End | 06/24/11 |
Next Action Undetermined |  |

Regulatory Flexibility Analysis Required: Yes.

Agency Contact: Daniel L. Engeljohn, Phone: 202 205-0495, Fax: 202 401-1760, Email: daniel.engeljohn@fsis.usda.gov.

RIN: 0583-AD36

BILLING CODE 3410-DM-P

DEPARTMENT OF AGRICULTURE (USDA)

Forest Service (FS)

Final Rule Stage

198. Special Areas; State-Specific Inventoried Roadless Area Management: Colorado

Legal Authority: Not Yet Determined

Abstract: On April 11, 2007, Governor of Colorado Ritter submitted a petition under the provisions of the Administrative Procedure Act (5 U.S.C. 553(e)) and Agriculture Department regulation (7 CFR 1.28) to promulgate regulations, in cooperation with the State, for the management of inventoried roadless areas within the State of Colorado. After review and recommendation by the Roadless Area Conservation National Advisory Committee, the Secretary accepted the Governor's petition and initiated a proposed rulemaking for inventoried roadless areas in Colorado. The proposed rulemaking would manage Colorado's inventoried roadless areas by prohibiting road building and tree cutting, with some exceptions, on 4.1 million acres of inventoried roadless areas in Colorado. The 4.1 million acres reflect the most updated IRA boundaries for Colorado, which incorporate planning rule revisions since 2001 on several Colorado national forests. Inventoried roadless areas that are allocated to ski area special uses (approximately 10,000 acres) would also be removed from roadless designation. Road construction and reconstruction plus timber harvesting would be prohibited in inventoried roadless areas, with some exceptions, on the Arapaho-Roosevelt, Grand Mesa-Uncompahgre, Gunnison, Manti-La Sal, Pike-San Isabel, Rio Grande, Routt, San Juan, and White River National Forests in Colorado. Exceptions to the prohibitions would be allowed for certain health, safety, valid existing rights, resource protection, and ecological management needs. Web site: http://roadless.fs.fed.us.

Timetable:

Action | Date | FR Cite
NPRM | 07/25/08 | 73 FR 43544
NPRM Comment Period End | 10/23/08 |
Second NPRM | 04/15/11 | 76 FR 21272
Second NPRM Comment Period End | 07/14/11 |
Final Rule | 03/00/12 |

Regulatory Flexibility Analysis Required: Yes.

Agency Contact: LaRenda C King, Assistant Director, Directives and Regulations, Department of Agriculture, Forest Service, ATTN: ORMS, D&R Branch, 1400 Independence Avenue Washington, DC 20250-0003, Phone: 202 205-6560, Email: larendacking@fs.fed.us.

RIN: 0596-AC74

DEPARTMENT OF AGRICULTURE (USDA)

Forest Service (FS)

Completed Actions

199. Pest and Disease Revolving Loan Fund

Legal Authority: Pub. L. 110-234, sec 10205

Abstract: The Forest Service is proposing to amend 36 CFR 230 to provide direction on implementing the Pest and Disease Revolving Loan Fund (Pub. L. 110-234, sec 10205), which authorizes loans to eligible units of local governments to finance purchases of authorized equipment to monitor, remove, dispose of, and replace infested trees in quarantine areas. The proposed changes amend part 230, State and Private Forestry Assistance by adding a new subpart.

Currently, there are no Forest Service rules or regulations on providing low interest loans to local municipalities to help them manage their insect and disease infested trees; the proposed rules will provide that direction.

The proposed amendment to 36 CFR 230 would add a subpart and will:

1. Clarify and define eligible units of local government.

2. Further define authorized equipment.

3. Describe the administrative requirements and process to apply for a loan.

4. Clarify the terms of the loan.

5. Describe repayment procedures.

6. Describe the administration of the loan program.

Completed:

Reason | Date | FR Cite
Withdrawn | 09/20/11 |

Regulatory Flexibility Analysis Required: Yes.

Agency Contact: LaRenda C King, Phone: 202 205-6560, Email: larendacking@fs.fed.us.

RIN: 0596-AC97

BILLING CODE 3410-11-P

DEPARTMENT OF AGRICULTURE (USDA)

Office of the Secretary (AgSEC)

Completed Actions

200. Designation of Biobased Items for Federal Procurement, Round 7

Legal Authority: Pub. L. 110-246

Abstract: Designates for preferred procurement bath products; concrete and asphalt cleaners, including microbial and non-microbial concrete and asphalt cleaners as subcategories; corrosion removers; dishwashing detergents; floor cleaners and protectors; hair cleaning products, including shampoos and conditioners as subcategories; microbial cleaners; oven and grill cleaners; slide way lubricants; and thermal shipping containers, including durable and non-durable thermal shipping containers as subcategories.

Completed:

Reason | Date | FR Cite
Final Action | 07/22/11 | 76 FR 43808
Final Action Effective | 08/22/11 |

Regulatory Flexibility Analysis Required: Yes.

Agency Contact: Ron Buckhalt, Phone: 202 205-4008, Fax: 202 720-8972 Email: ronb.buckhalt@dm.usda.gov.

RIN: 0503-AA36

BILLING CODE 3410-90-P

DEPARTMENT OF AGRICULTURE (USDA)

Office of Procurement and Property Management (OPPM)

Proposed Rule Stage

201. • Designation of Biobased Items for Federal Procurement, Round 9

Legal Authority: Pub. L. 110-246

Abstract: Designates for preferred procurement: Agricultural spray adjuvants; animal cleaning products; aquaculture products; cosmetics; deodorants; dethatcher products; fuel conditioners; hair styling products; leather, vinyl, and rubber care products; lotions and moisturizers; massage oils, shaving oils, shaving products; specialty precision cleaners and solvents; sun care products; and wastewater systems coatings.

Timetable:

Action | Date | FR Cite
NPRM | 02/00/12 |
NPRM Comment Period End | 04/00/12 |
Final Action | 10/00/12 |

Regulatory Flexibility Analysis Required: Yes.

Agency Contact: Ron Buckhalt, Manager, BioPreferred Program, Office of Procurement and Property Management, Department of Agriculture, 361 Reporters Building, 300 7th Street SW., Washington, DC 20250, Phone: 202 205-4008, Fax: 202 720-8972, Email: ronb.buckhalt@dm.usda.gov.

RIN: 0599-AA15

202. • Designation of Biobased Items for Federal Procurement, Round 10

Legal Authority: Pub. L. 110-246

Abstract: Designates for preferred procurement: Adhesives; aircraft and boat cleaners; automotive care products; body care products-body powders; engine crankcase oil; exterior paints and coatings; facial care products; gasoline fuel additives; hair removal-depilatory products; metal cleaners and corrosion removers; microbial cleaning products; paint removers; paper products; sanitary tissues; water turbine bearing oils; and asphalt roofing materials—low slope.

Timetable:

Action | Date | FR Cite
NPRM | 05/00/12 |
NPRM Comment Period End | 07/00/12 |
Final Action | 01/00/13 |

Regulatory Flexibility Analysis Required: Yes.

Agency Contact: Ron Buckhalt, Manager, BioPreferred Program, Office of Procurement and Property Management, Department of Agriculture, 361 Reporters Building, 300 7th Street SW., Washington, DC 20250, Phone: 202 205-4008, Fax: 202 720-8972, Email: ronb.buckhalt@dm.usda.gov.

RIN: 0599-AA16

DEPARTMENT OF AGRICULTURE (USDA)

Office of Procurement and Property Management (OPPM)

Final Rule Stage

203. • Designation of Biobased Items for Federal Procurement, Round 8

Legal Authority: Pub. L. 110-246

Abstract: This proposed rule will designate, for preferred procurement under the Federal Biobased Products Preferred Procurement Program, 14 items. These are: Air fresheners and deodorizers; asphalt and tar removers; asphalt restorers; blast media; candles and wax melts; clothing; electronic components cleaners; floor coverings (non-carpet); foot care products; furniture cleaners and protectors; inks; packaging and insulating materials; pneumatic equipment lubricants; and wood and concrete stains.

Timetable:

Action | Date | FR Cite
NPRM | 09/14/11 | 76 FR 56884
NPRM Comment Period End | 11/14/11 |
Final Action | 07/00/12 |

Regulatory Flexibility Analysis Required: Yes.

Agency Contact: Ron Buckhalt, Manager, BioPreferred Program, Office of Procurement and Property Management, Department of Agriculture, 361 Reporters Building, 300 7th Street SW., Washington, DC 20250, Phone: 202 205-4008, Fax: 202 720-8972, Email: ronb.buckhalt@dm.usda.gov.

RIN: 0599-AA14

[FR Doc. 2012-1640 Filed 2-10-12; 8:45 am]

BILLING CODE 3410-98-P